DEPARTMENT OF HEALTH AND HUMAN SERVICES

Administration for Community Living

Agency Information Collection Activities; Proposed Collection; Comment Request; University Centers for Excellence in Developmental Disabilities Education, Research, and Service—Annual Report

AGENCY: The Administration on Intellectual and Developmental Disabilities (AIDD), Administration for Community Living (ACL), HHS.

ACTION: Notice.

SUMMARY: The Administration on Intellectual and Developmental Disabilities (AIDD), now part of the Administration for Community Living, is announcing that the proposed collection of information listed below has been submitted to the Office of Management and Budget (OMB) for review and clearance under the Paperwork Reduction Act of 1995.

DATES: Submit written comments on the collection of information by July 8, 2013.

ADDRESSES: OIRA_submission@omb.eop.gov or by fax to 202.395.5806. Attn: OMB Desk Officer for ACL, Office of Information and Regulatory Affairs, OMB.

FOR FURTHER INFORMATION CONTACT: Jennifer Johnson, at 202-690-5982 or jennifer.johnson@acl.hhs.gov.

SUPPLEMENTARY INFORMATION: In compliance with 44 U.S.C. 3507, the Administration on Intellectual and Developmental Disabilities (now part of the Administration for Community Living) has submitted the following proposed collection of information to OMB for review and clearance.

Section 104 (42 U.S.C. 15004) of the Developmental Disabilities Assistance and Bill of Rights Act of 2000 (DD Act of 2000) directs the Secretary of Health and Human Services to develop and implement a system of program accountability to monitor the grantees funded under the DD Act of 2000. The program accountability system shall include the National Network of University Centers for Excellence in Developmental Disabilities Education, Research, and Service (UCEDDs) authorized under Part D of the DD Act of 2000. In addition to the accountability system, Section 154 (e) (42 U.S.C. 15064) of the DD Act of 2000 includes requirements for a UCEDD Annual Report. In response to the 60-day Federal Register notice related to this proposed data collection and published on January 15, 2013 in Volume 78, ten sets of comments were received. Most of the comments provided recommendations for enhancing the quality and clarity of the information to be collected. The comments resulted in some revisions to the proposed data collection tools. The originally proposed data collection tools, the comments with responses and a revised set of data collection tools may be obtained by contacting Jennifer Johnson at jennifer.johnson@acl.hhs.gov or 202-690-5982. AIDD estimates the burden of this collection of information as 1,412 average burden hours per responses, for 67 UCEDDs—Total burden is 94,604 hours per year.

Dated: June 3, 2013.
Kathy Greenlee,
Administrator and Assistant Secretary for Aging.

[FR Doc. 2013-13421 Filed 6-5-13; 8:45 am]

BILLING CODE 4154-01-P